AGENCY FOR INTERNATIONAL DEVELOPMENT

Notice of Meeting; Correction

AGENCY: United States Agency for International Development.

ACTION: Request for public comment and notice of public meeting; correction.

SUMMARY: The United States Agency for International Development (USAID) published a notice in the Federal Register on Thursday, May 2, 2024, to provide details regarding a Partnership for Peace Fund (PPF) Advisory Board meeting being held on May 21, 2024. The meeting link and telephone access information for the upcoming meeting have been updated.

DATES: The next Partnership for Peace Fund Advisory Board meeting will be held on May 21, 2024, from 9 a.m.-11:15 a.m. EST via the Webex platform (https://usaid.webex.com/usaid/j.php?MTID=md4603ab865505b9111f58377e61c1020 or via phone at +1-415-527-5035 with access code 282 641 72165.)

The meeting does not require pre-registration.

FOR FURTHER INFORMATION CONTACT: Dan McDonald, Designated Federal Officer, at meppa@usaid.gov or +1 202-712-4965.

SUPPLEMENTARY INFORMATION:

Correction

In FR Doc. N0. 2024-09503, appearing on page 35773 in the Federal Register of Thursday, May 2, 2024, make the following corrections:

1. On page 35773, in the first column, in DATES, correct “(https://usaid.zoomgov.com/j/1606503264?pwd=ZVpXSWpnYnBoTHFIVFEwYTR5QTVTUT09}” to read “(https://usaid.webex.com/usaid/j.php?MTID=md4603ab865505b9111f58377e61c1020)”.

2. On page 35773, in the third column, under “Public Meeting,” correct “(https://usaid.zoomgov.com/j/1606503264?pwd=ZVpXSWpnYnBoTHFIVFEwYTR5QTVTUT09” to read “(https://usaid.webex.com/usaid/j.php?MTID=md4603ab865505b9111f58377e61c1020)”.

Meghan Holohan,
Deputy Office Director, Office of Middle Eastern Affairs, Bureau for the Middle East, USAID.

[FR Doc. 2024-11215 Filed 5-17-24; 4:15 pm]

BILLING CODE 6116-01-P